DEPARTMENT OF ENERGY

Federal Energy Regulatory Commission

[Docket No. RP02-114-000]

Tennessee Gas Pipeline Company; Notice Cashout Report

December 6, 2001.

Take notice that on November 30, 2001, Tennessee Gas Pipeline Company (Tennessee) tendered for filing its cashout report for the September 2000 through August 2001 period.

Tennessee states that the cashout report is the third filed by Tennessee under the new cashout reconciliation methodology established pursuant to the March 25, 1999 Stipulation and Agreement on the Tennessee system. Tennessee further states that the cashout repot reflects a cashout gain during the period of $11,579,694. Pursuant to the March 25, 1999 cashout settlement, there is a cumulative loss carry forward from prior cashout operations of $978,801 resulting in a net gain of $10,600,893.

Tennessee states that copies of the filing has been mailed to all affected customers and state regulatory Commissions.

Any person desiring to be heard or to protest said filing should file a motion to intervene or a protest with the Federal Energy Regulatory Commission, 888 First Street, NE, Washington, DC 20426, in accordance with sections 385.214 or 385.211 of the Commission's Rules and Regulations. All such motions or protests must be filed in on or before December 13, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30697 Filed 12-11-01; 8:45 am]

BILLING CODE 6717-01-P